FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011328-002.

Title: Toko Line/Shinwa Space Charter and Cooperative Working Agreement.

Parties: Shinwa Kaiun Kaisha, Ltd. and Toko Kaiun Kaisha, Ltd.

Filing Party: Robert B. Yoshitomi, Esq.; Nixon Peabody LLP; 2040 Main Street, Suite 850; Irvine, CA 92616.

Synopsis: The amendment changes the name of Shinwa to NS United Kaiun Kaisha, Ltd.

Agreement No.: 200233-016.

Title: Lease and Operating Agreement between Philadelphia Regional Port Authority and Astro Holdings, Inc.

Parties: Philadelphia Regional Port Authority and Astro Holdings, Inc.

Filing Parties: Paul D. Coleman, Esq.; Hoppel, Mayer & Coleman; 1000 Connecticut Avenue, NW.; Washington, DC 20036.

Synopsis: The amendment revises the break bulk cargo provisions and fees.

Agreement No.: 201048-006.

Title: Lease and Operating Agreement between Philadelphia Regional Port Authority and Delaware River Stevedores, Inc.

Parties: Philadelphia Regional Port Authority and Delaware River Stevedores, Inc.

Filing Party: Paul D. Coleman, Esq.; Hoppel, Mayer & Coleman; 1050 Connecticut Avenue, NW.; Tenth Floor; Washington, DC 20036.

Synopsis: The amendment allows for a temporary waiver of dockage fees on Rickmers-Linie vessels calling at the Tioga Marine Terminal from May 1, 2010 to December 31, 2010.

Agreement No.: 201062-003.

Title: Lease and Operating Agreement between PRPA and Penn City Investments, Inc.

Parties: Penn City Investments, Inc.; and Philadelphia Regional Port Authority

Filing Party: Paul D. Coleman, Esq.; Hoppel, Mayer & Coleman; 1000 Connecticut Avenue, NW.; Washington, DC 20036.

Synopsis: The amendment adjusts minimum cargo fees provided certain conditions are met.

By Order of the Federal Maritime Commission.
Dated: September 24, 2010.
Rachel E. Dickon,
Assistant Secretary.

[FR Doc. 2010-24411 Filed 9-28-10; 8:45 am]

BILLING CODE 6730-01-P